DEPARTMENT OF COMMERCE

Bureau of Export Administration

15 CFR Parts 734, 740, 742, 743, and 774

[Docket No. 020228045-2053-02]

RIN 0694-AC56

Corrections to Rule Entitled: Revisions to License Exception CTP: Implementation of Presidential Announcement of January 2, 2002

AGENCY: Bureau of Export Administration, Commerce.

ACTION: Final rule.

SUMMARY: On March 8, 2002 the Bureau of Export Administration (BXA) published a final rule revising License Exception CTP. This rule corrects errors in instruction 9.

DATES: This rule is effective March 25, 2002.

FOR FURTHER INFORMATION CONTACT: Sharron Cook in the Office of Exporter Services, Bureau of Export Administration, at (202) 482-2440.

SUPPLEMENTARY INFORMATION:

In rule FR Doc. 02-5562 published on March 8, 2002, (67 FR 10608), BXA makes the following corrections.

PART 742—[CORRECTED]

On page 10610, in the third column, under part 742, in instruction 9, revise the phrase “in paragraph (b)(3)(iv)(A)” to read “in paragraph (b)(3)(iv)(A),” and by revising the phrase “with a CTP greater than 85,000 MTOPS” to read “with a CTP greater than 190,000 MTOPS” in paragraph (b)(3)(i)(B).

Dated: March 19, 2002.
Eileen M. Albanese,
Director, Office of Exporter Services, Export Administration.

[FR Doc. 02-7111 Filed 3-22-02; 8:45 am]

BILLING CODE 3510-33-M